DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 20, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Housing Service

Title: 7 CFR 1901-E, Civil Rights Compliance Requirements.

OMB Control Number: 0575-0018.

Summary of Collection: Rural Development (RD) is required to provide Federal financial assistance through its housing and community and business programs on an equal opportunity basis. The information collection requirements in this request are needed to comply with civil rights laws and Executive Orders that provide protection and prohibit discrimination on the basis of race, color, national origin, religion, sex, gender identity (including gender expression), sexual orientation, disability, age, marital status, family/parental status, income derived from a public assistance program, political beliefs, reprisal or retaliation for prior civil rights activity.

Need and Use of the Information: RD will use the information to monitor a recipient's compliance with the civil rights laws, and to determine whether or not service and benefits are being provided to beneficiaries on an equal opportunity basis. This information is made available to USDA officials, officials of other Federal agencies and to Congress for reporting purposes. Without the required information, RD and its recipient will lack the necessary documentation to demonstrate that their programs are being administered in a nondiscriminatory manner and in full compliance with the civil rights laws.

Description of Respondents: Individuals or households.

Number of Respondents: 27,000.

Frequency of Responses: Recordkeeping; Reporting: On occasion.

Total Burden Hours: 458,363.

Rural Housing Service

Title: Fire and Rescue Loans—7 CFR 1942, Subpart C.

OMB Control Number: 0575-0120.

Summary of Collection: The Rural Housing Service (RHS) is authorized by Section 306 of the Consolidated Farm and Rural Development Act (7 U.S.C. 1926) to make loans to public agencies, nonprofit corporations, and Indian tribes for the development of essential community facilities primarily serving rural residents. The primary regulation for administering this Community Facilities (CF) program is 7 CFR 1942-A (0575-0015). The procedures set out in 7 CFR 1942-A have been developed for determining eligibility, analyzing financial feasibility, taking security, monitoring the use of loan funds, monitoring the financial condition of borrowers, and otherwise assisting borrowers and applicants and protecting the Government's interest. This includes requirements for applicants to provide certain information and documents.

Need and Use of the Information: The information will be collected by Rural Development field offices from applicants/borrowers and consultants. This information will be used to determine applicant/borrower eligibility, project feasibility, and ensure borrowers operate on a sound basis and use loan funds for authorized purposes.

Description of Respondents: Private Sector; Not-for-profit institutions.

Number of Respondents: 1,000.

Frequency of Responses: Reporting: On occasion; Annually.

Total Burden Hours: 7,881.

Rural Housing Service

Title: 7 CFR part 3565, “Guaranteed Rural Rental Housing Program” and Its' Supporting Handbook.

OMB Control Number: 0575-0174.

Summary of Collection: On March 28, 1996, the Housing Opportunity Program Extension Act of 1996 was signed. One of the provisions of the Act was the authorization of the section 538 Guaranteed Rural Rental Housing Program (GRRHP), adding the program to the Housing Act of 1949. The purpose of the GRRHP is to increase the supply of affordable rural rental housing through the use of loan guarantees that encourage partnerships between the Rural Housing Service (RHS), private lenders and public agencies. RUS will approve qualified lenders to participate and monitor lender performance to ensure program requirements are met. RHS will collect information from lenders on the eligibility cost, benefits, feasibility, and financial performance of the proposed project.

Need and Use of the Information: RHS will collect information from lenders to manage, plan, evaluate, and account for Government resources and from time to time, propose demonstration programs that use loan guarantees or interest credit. The GRRHP regulation and handbook will provide lenders and agency staff with guidance on the origination, and servicing of GRRHP loans and the approval of qualified lenders. RHS will use the information to evaluate a lender's request and make determination that the interests of the government are protected. Failure to collect information could have an adverse impact on the agency ability to monitor lenders and assess program effectiveness and effectively guarantee loans.

Description of Respondents: Private Sector; Business or other for-profit; Not for-profit Institutions.

Number of Respondents: 150.

Frequency of Responses: Reporting: Monthly.

Total Burden Hours: 2,445.

Rural Housing Service

Title: Rural Community Development Initiative (RCDI).

OMB Control Number: 0575-0180.

Summary of Collection: Congress first authorized the Rural Community Development Initiative (RCDI) in 1999 with an appropriation of $6 million under the Rural Community Advancement Program (Pub. L. 106-78, which was amended by the Consolidated Appropriations Act, 2016 (Pub. L. 114-113)). The Community Facilities Division under the Rural Housing Service (RHS) administers this grant program. The intent of the RCDI grant program is to develop the capacity and ability of rural area recipients to undertake projects through a program of financial and technical assistance provided by qualified intermediary organizations. Intermediaries may be private or public (including tribal) organizations. Intermediaries are required to provide matching funds in an amount equal to the RCDI grant. Eligible recipients are nonprofit organizations, low-income rural communities, or federally recognized tribes.

Need and Use of the Information: The information will be collected from applicants/grantees (intermediary organizations applying for the grant), recipients (entities that receive assistance from the intermediary), and beneficiaries (entities or individuals that benefit from assistance provided by the recipient) by RHS staff in the National Office and Rural Development field offices. This information is used to determine applicant and recipient eligibility, project feasibility, and to ensure that grantees operate on a sound basis and use grant funds for authorized purposes. The Notice of Funding Availability (NOFA), published in the Federal Register, provides instructions for completing an application.

Description of Respondents: Private Sector; Not-for profit institutions.

Number of Respondents: 65.

Frequency of Responses: Reporting: Quarterly.

Total Burden Hours: 2,399.

Rural Housing Service

Title: RHS-Finance Office Forms.

OMB Control Number: 0575-0184.

Summary of Collection: Rural Development uses electronic methods for receiving and processing loan payments and collections. These electronic collection methods are approved by Treasury and include Customer Initiated Payments (CIP), FedWire, and Preauthorized Debits (PAD). The Agency that collects CIP information under this paperwork burden submission are Housing and Community Facilities and the Utilities Programs. The Agencies that collect FedWire and PAD information under this paperwork burden submission are the Housing and Community Facilities Programs, Business and Cooperative Programs, Water and Environmental Programs and Utilities Programs.

These electronic collection methods provide the borrower the ability to submit their loan payments the day prior to or the day of their installment due date. The benefits of these electronic payment methods include elimination of the mail time for submitting and receiving collections thereby giving borrowers use of their funds for a longer period; reduction in loan delinquencies; and improved efficiency for the Government and the borrower.

The following information is provided to comply with the Privacy Act of 1974 (Pub. L. 93-579). The information requested on the form is required under various provisions of title 15 U.S.C. 1601, 12 CFR 205, and 31 CFR 202, for the purpose of providing authority to the Department of Treasury to designate financial institutions to collect payments, by electronic means, from an account. The information will be used for identification with the records of the government agency and the financial institution to direct the payments to the point authorized. No deduction may be made unless a signed authorization form is received. Failure to furnish this information may delay or prevent the collection of these payments through the Automated Clearing House System.

To administer these electronic payment methods, Rural Development must collect the borrower's financial institution (FI) routing information (routing information includes the FI routing number and the borrower's account number). Rural Development uses Agency approved forms for collecting this FI routing information.

Need and Use of the Information: Rural Development requests that the borrower make payments electronically via CIP, FedWire, or PAD. In order to do this, Rural Development is seeking extension of Agency forms for collecting FI routing information for CIP, FedWire, and PAD collections. If the information were not collected, Rural Development would be unable to collect loan payments electronically.

Description of Respondents: Individuals and Households; Farms; Not-for-profit institutions; Business or other for-profit; State, Local or Tribal Government.

Number of Respondents: 11,062.

Frequency of Responses: Reporting: On occasion.

Total Burden Hours: 4,609.

Levi S. Harrell,
Departmental Information Collection Clearance Officer.

[FR Doc. 2025-01357 Filed 1-17-25; 8:45 am]

BILLING CODE 3410-XV-P